DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2015 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2015 agenda. The purpose of the agenda is to provide information to the public on regulations that are currently under review, being proposed, or issued by Commerce. The agenda is intended to facilitate comments and views by interested members of the public.

Commerce's fall 2015 regulatory agenda includes regulatory activities that are expected to be conducted during the period October 1, 2015, through September 30, 2016.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2015 Unified Agenda of Federal Regulatory and Deregulatory Actions pursuant to Executive Order 12866 and the Regulatory Flexibility Act, 5 U.S.C. 601 et seq. Executive Order 12866 requires agencies to publish an agenda of those regulations that are under consideration pursuant to this order. By memorandum of August 13, 2015, the Office of Management and Budget issued guidelines and procedures for the preparation and publication of the fall 2015 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. These operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2015 regulatory agenda follows.

Kelly Welsh,
General Counsel.

International Trade Administration—Completed Actions
Sequence No. | Title | Regulation Identifier No.
170 | Antidumping Methodologies: Market Economy Inputs | 0625-AA89

National Oceanic and Atmospheric Administration—Proposed Rule Stage
Sequence No. | Title | Regulation Identifier No.
171 | Amendment 5b to the Highly Migratory Species Fishery Management Plan | 0648-BD22
172 | Comprehensive Fishery Management Plan for Puerto Rico | 0648-BD32
173 | Comprehensive Fishery Management Plan for St. Croix | 0648-BD33
174 | Comprehensive Fishery Management Plan for St. Thomas/St. John | 0648-BD34
175 | Implementation of a Program for Transshipments by Large Scale Fishing Vessels in the Eastern Pacific Ocean | 0648-BD59
176 | Amendment 28 to the Fishery Management Plan for the Reef Fish Resources of the Gulf of Mexico (Section 610 Review) | 0648-BD68
177 | Amendment 7 to the FMP for the Dolphin Wahoo Fishery of the Atlantic and Amendment 33 to the FMP for the Snapper-Grouper Fishery of the South Atlantic | 0648-BD76
178 | Regulatory Amendment 16 to the Fishery Management Plan for the Snapper-Grouper Fishery of the South Atlantic Region | 0648-BD78
179 | Generic Accountability Measure and Dolphin Allocation Amendment for the South Atlantic Region | 0648-BE38
180 | Omnibus Acceptable Biological Catch Framework Adjustment | 0648-BE65
181 | Amendment 35 to the Fishery Management Plan for the Snapper Grouper Fishery of the South Atlantic Region | 0648-BE70
182 | Modification of the Temperature-Dependent Component of the Pacific Sardine Harvest Guideline Control Rule to Incorporate New Scientific Information | 0648-BE77
183 | Amendment 44 to the Fishery Management Plan for Bering Sea/Aleutian Islands King and Tanner Crabs to Modify Right of First Refusal Provisions of the Crab Rationalization Program | 0648-BE98
184 | Reductions in Fishing Capacity for Lobster Management Areas 2 and 3 | 0648-BF01
185 | Amendment 109 to the Fishery Management Plan for Groundfish of the BSAI to Facilitate Development of Groundfish Fisheries for Small Vessels in the Western Alaska Community Development Quota Program | 0648-BF05
186 | Magnuson-Stevens Fisheries Conservation and Management Act; Seafood Import Monitoring Program | 0648-BF09
187 | Pacific Coast Groundfish Trawl Rationalization Program; Widow Rockfish Reallocation in the Individual Fishing Quota Fishery | 0648-BF12
188 | Framework Amendment 3 to the Fishery Management Plan for the Coastal Migratory Pelagic Resources of the Gulf of Mexico and Atlantic Region | 0648-BF14
189 | Framework Amendment to the Fishery Management Plan for the Reef Fish Resources of the Gulf of Mexico to Modify Greater Amberjack Allowable Harvest and Management Measures | 0648-BF21
190 | Implementation of Salmon Bycatch Management Measures for the Bering Sea Pollock Fishery | 0648-BF25
191 | Amendment 18 to the Northeast Multispecies Fishery Management Plan (Section 610 Review) | 0648-BF26
192 | Framework Amendment to the Fishery Management Plan for the Reef Fish Resources of the Gulf of Mexico for Red Snapper Commercial Quota Retention for 2016 | 0648-BF33

National Oceanic and Atmospheric Administration—Final Rule Stage
Sequence No. | Title | Regulation Identifier No.
193 | Fishery Management Plan for Regulating Offshore Marine Aquaculture in the Gulf of Mexico | 0648-AS65
194 | Atlantic Highly Migratory Species; Future of the Atlantic Shark Fishery | 0648-BA17
195 | Implement the 2010 Shark Conservation Act Provisions and Other Regulations in the Atlantic Smoothhound Shark Fishery | 0648-BB02
196 | Amendment 7 to the 2006 Consolidated Highly Migratory Species Fishery Management Plan | 0648-BC09
197 | Implementation of the Inter-American Tropical Tuna Commission Resolution to Establish a Vessel Monitoring System Program in the Eastern Pacific Ocean | 0648-BD54
198 | Amendment 8 to the Fishery Management Plan for Coral, Coral Reefs, and Live/Hard Bottom Habitats of the South Atlantic Region | 0648-BD81
199 | Cost Recovery from Amendment 80, Community Development Quota Groundfish and Halibut, American Fisheries Act and Aleutian Islands Pollock, and the Freezer Longline Coalition Pacific Cod Fisheries Man | 0648-BE05
200 | International Fisheries; Western and Central Pacific Fisheries for Highly Migratory Species; Fishing Effort and Catch Limits and Other Restrictions and Requirements | 0648-BE84
201 | Revision of Skate Maximum Retainable Amounts in the Gulf of Alaska Groundfish Fishery | 0648-BE85
202 | Pacific Coast Groundfish Fishing Capacity Reduction Loan Refinance (Section 610 Review) | 0648-BE90
203 | Process for Divestiture of Excess Quota Shares (Section 610 Review) | 0648-BF11
204 | Designation of Critical Habitat for the North Atlantic Right Whale | 0648-AY54
205 | Endangered and Threatened Species: Designation of Critical Habitat for Threatened Lower Columbia River Coho Salmon and Puget Sound Steelhead | 0648-BB30
206 | Designation of Critical Habitat for the Arctic Ringed Seal | 0648-BC56
207 | Revisions to Hawaiian Islands Humpback Whale National Marine Sanctuary Regulations | 0648-BD97

National Oceanic and Atmospheric Administration—Long-Term Actions
Sequence No. | Title | Regulation Identifier No.
208 | Amendment 39 to the Fishery Management Plan for the Reef Fish Resources of the Gulf of Mexico | 0648-BD25
209 | Designate Critical Habitat for the Hawaiian Insular False Killer Whale Distinct Population Segment | 0648-BC45

National Oceanic and Atmospheric Administration—Completed Actions
Sequence No. | Title | Regulation Identifier No.
210 | Amendment 22 to the Fishery Management Plan for the Snapper Grouper Fishery of the South Atlantic Region | 0648-BA53
211 | Amendment 31 to the Fishery Management Plan for the Bering Sea and Aleutian Islands King and Tanner Crabs | 0648-BA61
212 | Amendment 43 to the FMP for BSAI King and Tanner Crabs and Amendment 103 to the FMP for Groundfish of the BSAI | 0648-BC34
213 | Pacific Coast Groundfish Trawl Rationalization Program Trailing Action: Rule to Modify Chafing Gear Regulations for Midwater Trawl Gear Used in the Pacific Coast Groundfish Fishery | 0648-BC84
214 | Fisheries Off West Coast States; West Coast Salmon Fisheries; Amendment 18; Essential Fish Habitat Descriptions for Pacific Salmon | 0648-BC95
215 | Codifying the Initial Vessel Monitoring System Type-Approval Process and Requirements, and the Recertification and Revocation Processes | 0648-BD02
216 | Pacific Coast Groundfish Trawl Rationalization Program Trailing Actions: Permitting Requirements for Observer and Catch Monitor Providers (Section 610 Review) | 0648-BD30
217 | Establishment of Special Management Zones for Delaware Artificial Reefs | 0648-BD42
218 | Amendment 97 to the Fishery Management Plan for Groundfish of the Gulf of Alaska to Establish Chinook Salmon Prohibited Species Catch Limits for the Non-Pollock Trawl Fisheries | 0648-BD48
219 | Amendment 45 to the Fishery Management Plan for Bering Sea and Aleutian Islands King and Tanner Crab Freezer Longline Catcher/Processor Pacific Cod Sideboard Removal (Section 610 Review) | 0648-BD61
220 | Information Collection Program for Atlantic Surfclam and Ocean Quahog Fisheries | 0648-BD64
221 | Amendment 100 to the FMP for Groundfish of the BSAI Management Area and Amendment 91 to the FMP for Groundfish of the Gulf of Alaska to add Grenadiers to the Ecosystem Component Category | 0648-BD98
222 | Implementation of a Gulf of Alaska Trawl Fishery Economic Data Collection Program | 0648-BE09
223 | 2015-2016 Pacific Coast Groundfish Harvest Specifications and Management Measures and Amendment 24 to the Pacific Coast Groundfish FMP | 0648-BE27
224 | Regulatory Amendment to Change the Definition of Sport Fishing Guide Services for Pacific Halibut in International Pacific Halibut Commission Area 2C and Area 3A | 0648-BE41
225 | Framework Action to Revise Recreational Accountability Measures for Red Snapper | 0648-BE44
226 | Amendment 16 to the Fishery Management Plan for the Shrimp Fishery of the Gulf of Mexico, U.S. Waters | 0648-BE46
227 | 2015-2017 Specifications and Management Measures for the Atlantic Mackerel, Squid, and Butterfish Fisheries | 0648-BE49
228 | Framework Adjustment 26 to the Atlantic Sea Scallop Fishery Management Plan (Section 610 Review) | 0648-BE68
229 | Pacific Coast Groundfish Trawl Rationalization Program—Midwater Trawl Fishery Season Date Change (Section 610 Review) | 0648-BE72
230 | Framework Adjustment 53 to the Northeast Multispecies Fishery Management Plan (Section 610 Review) | 0648-BE75
231 | 2015-2016 Atlantic Bluefin Tuna Quotas | 0648-BE81
232 | Revision of Hawaiian Monk Seal Critical Habitat | 0648-BA81
233 | 2015 Annual Determination to Implement the Sea Turtle Observer Requirement | 0648-BE35
234 | Amendment to the Atlantic Large Whale Take Reduction Plan | 0648-BE83

DEPARTMENT OF COMMERCE (DOC)

International Trade Administration (ITA)

Completed Actions

170. • Antidumping Methodologies: Market Economy Inputs

Legal Authority: 19 U.S.C. 1202 note; 19 U.S.C. 1303 note; 19 U.S.C. 1671 et seq.; 19 U.S.C. 3538; 5 U.S.C. 301

Abstract: The Department of Commerce (Department) amends its regulations to modify its regulation which states that the Department normally will use the price that a nonmarket economy (NME) producer pays to a market economy supplier when a factor of production is purchased from a market economy supplier and paid for in market economy currency, in the calculation of normal value (NV) in antidumping proceedings involving NME countries. The rule, if adopted, would establish (1) a requirement that the input at issue be produced in one or more market economy countries, and (2) a revised threshold requiring that substantially all of an input be purchased from one or more market economy suppliers before the Department would use the purchase price paid to value the entire factor of production. Through this modification, the Department is announcing its definition of substantially all to be 85 percent of the total purchased volume of the particular input.

Timetable:

Action | Date | FR Cite
NPRM | 06/28/12 | 77 FR 38553
NPRM Comment Period End | 07/30/12
Final Action | 08/02/13 | 78 FR 46799
Final Action Effective | 09/03/13

Regulatory Flexibility Analysis Required: Yes.

Agency Contact: Scott McBride, Department of Commerce, International Trade Administration, 14th & Pennsylvania Avenue NW., Washington, DC 20230, Phone: 202 482-6292, Fax: 202 482-4912, Email: scott_mcbride@ita.doc.gov.

RIN: 0625-AA89

DEPARTMENT OF COMMERCE (DOC)

National Oceanic and Atmospheric Administration (NOAA)

Proposed Rule Stage

National Marine Fisheries Service

171. Amendment 5B to the Highly Migratory Species Fishery Management Plan

Legal Authority: 16 U.S.C. 1801 et seq.; 16 U.S.C. 971 et seq.

Abstract: This rulemaking would propose management measures for dusky sharks based on a recent stock assessment, taking into consideration comments received on the proposed rule and Amendment 5 to the 2006 Consolidated Highly Migratory Species Fishery Management Plan. This rulemaking could consider a range of commercial and recreational management measures in both directed and incidental shark fisheries including, among other things, gear modifications, time/area closures, permitting, shark identification requirements, and reporting requirements. NMFS determined dusky sharks are still overfished and still experiencing overfishing and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. NMFS decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 03/00/16

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

172. Comprehensive Fishery Management Plan for Puerto Rico

Legal Authority: 16 U.S.C. 1801 et seq.

Abstract: This comprehensive Puerto Rico Fishery Management Plan will incorporate, and modify as needed, federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 09/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

173. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 09/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

174. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 09/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

175. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. The rule is neither applicable to troll and pole-and-line vessels, nor to vessels that transship fresh fish at sea. The frequency of transshipments in the Eastern Pacific Ocean is uncertain, but only a few transshipments are expected annually. A similar rule was adopted in the Western and Central Pacific Ocean and the National Marine Fisheries Service calculated that an average of twenty-four at-sea transshipments of fish caught by longline gear there have occurred annually from 1993 through 2009. Transshipments in the Eastern Pacific Ocean are likely to be much less than twenty-four per year. This rule is necessary for the United States to satisfy its international obligations under the 1949 Convention for the Establishment of an Inter-American Tropical Tuna, to which it is a Contracting Party.

Timetable:

Action | Date | FR Cite
NPRM | 01/00/16 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD59

176. Amendment 28 to the Fishery Management Plan for the Reef Fish Resources of the Gulf of Mexico (Section 610 Review)

Legal Authority: 16 U.S.C. 1801 et seq.

Abstract: The current allocation of red snapper between the commercial and recreational sectors is 51:49 percent, respectively. The Gulf of Mexico Fishery Management Council (Council) is considering a change in the allocation with the aim of increasing the net benefits from red snapper fishing and increasing the stability of the red snapper recreational component of the reef fish fishery. The rule will consider options that would increase the recreational sector's allocation above 49 percent.

Timetable:

Action | Date | FR Cite
NPRM | 12/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD68

177. Amendment 7 to the FMP for the Dolphin Wahoo Fishery of the Atlantic and Amendment 33 to the FMP for the Snapper-Grouper Fishery of the South Atlantic

Legal Authority: 16 U.S.C. 1801 et seq.

Abstract: The purpose of Amendment 7 to the Fishery Management Plan for the Dolphin and Wahoo Fishery of the Atlantic is to allow fishermen to bring dolphin and wahoo fillets from The Commonwealth of The Bahamas into the U.S. Economic Exclusive Zone (EEZ). Regulations at 50 CFR 622.186(b) currently allows fillets of snapper grouper species from The Bahamas to be brought into the U.S. EEZ. Additionally, regulations would be updated for snapper grouper species and dolphin and wahoo to require all fillets to have the skin intact; and consider an exemption from bag limits for dolphin and wahoo in the U.S. EEZ. The need for this action is to increase economic and social benefits to fishermen by removing unnecessary restrictions and implementing regulations for dolphin and wahoo that are consistent with snapper grouper species.

Timetable:

Action | Date | FR Cite
NPRM | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD76

178. Regulatory Amendment 16 to the Fishery Management Plan for the Snapper-Grouper Fishery of the South Atlantic Region

Legal Authority: 16 U.S.C. 1801 et seq.

Abstract: Regulatory Amendment 16 contains an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, is considering removal of the closure, changing the length of the closure, and changing the area of the closure. The goal is to minimize adverse socio-economic impacts to black sea bass pot endorsement holders while maintaining protection for Endangered Species Act-listed whales in the South Atlantic region.

Timetable:

Action | Date | FR Cite
NPRM | 02/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD78

179. Generic Accountability Measure and Dolphin Allocation Amendment for the South Atlantic Region

Legal Authority: 16 U.S.C. 1801 et seq.

Abstract: The action would include Amendment 34 to the Fishery Management Plan (FMP) for the Snapper-Grouper Fishery of the South Atlantic Region, Amendment 9 to the FMP for the Golden Crab Fishery of the South Atlantic Region, and Amendment 8 to the FMP for the Dolphin-Wahoo Fishery of the Atlantic. Currently, there are inconsistent accountability measures for federally-managed species in the South Atlantic, except for inseason closures of the commercial sector when a commercial annual catch limit is met or projected to be met. Therefore, Amendment 34 and Amendment 9 would propose modifications to accountability measures for snapper-grouper species and golden crab to create a more consistent regulatory environment while ensuring overfishing does not occur. Amendment 8 would consider alternatives to modify sector allocations for dolphin. The current method for determining allocations is based on a time series of data from 1999-2008. Dolphin landings data starting from 1986 are available, and the South Atlantic Fishery Management Council is reexamining the sector allocations based on this expanded times series of data.

Timetable:

Action | Date | FR Cite
Notice | 07/15/15 | 80 FR 41472
NPRM | 11/00/15 |
Final Action | 12/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE38

180. Omnibus Acceptable Biological Catch Framework Adjustment

Legal Authority: 16 U.S.C. 1801 et seq.

Abstract: This action would make two administrative adjustments to the Mid-Atlantic Fishery Management Council's (Council) Omnibus Annual Catch Limit Amendment: (1) Adjust the Council's risk policy so that the Scientific and Statistical Committee may apply an average probability of overfishing when recommending multi-year Acceptable Biological Catches; and (2) make all of the Council's fishery management plans consistent in allowing new status determination criteria (overfishing definitions, etc.) to be accepted as the best available scientific information.

Timetable:

Action | Date | FR Cite
NPRM | 11/00/15 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE65

181. Amendment 35 to the Fishery Management Plan for the Snapper Grouper Fishery of the South Atlantic Region

Legal Authority: 16 U.S.C. 1801 et seq.

Abstract: Amendment 35 would consider removing black snapper, dog snapper, mahogany snapper, and schoolmaster from the Fishery Management Plan for the Snapper-Grouper Fishery of the South Atlantic Region because these species have extremely low commercial landings in state and Federal waters. Almost all harvest (recreational and commercial) occurs in South Florida, and the Florida Fish and Wildlife Conservation Commission has agreed that if the four species are removed from the Fishery Management Plan for the Snapper-Grouper Fishery of the South Atlantic Region they will extend state regulations for those species into Federal waters. Additionally, the South Atlantic Fishery Management Council (Council) desires consistent regulations for snapper-grouper species caught primarily in South Florida. Removing the four subject species would establish a consistent regulatory environment in Federal and state waters off southern Florida where they are most frequently encountered. Amendment 35 would also clarify in accordance with the Council's intent regulations governing use of golden tilefish longline endorsements.

Timetable:

Action | Date | FR Cite
NPRM | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE70

182. Modification of the Temperature-Dependent Component of the Pacific Sardine Harvest Guideline Control Rule to Incorporate New Scientific Information

Legal Authority: 16 U.S.C. 1801 et seq.

Abstract: Pursuant to a recommendation of the Pacific Fishery Management Council (Council) under the Magnuson-Stevens Act, the National Marine Fisheries Service (NMFS) is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. NMFS determined that a new temperature index is more statistically sound and this action will adopt that index. This action also will revise the upper temperature limit to allow for additional sardine harvest where prior guidelines set catch unnecessarily low.

Timetable:

Action | Date | FR Cite
NPRM | 11/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE77

183. Amendment 44 to the Fishery Management Plan for Bering Sea/Aleutian Islands King and Tanner Crabs To Modify Right of First Refusal Provisions of the Crab Rationalization Program

Legal Authority: 16 U.S.C. 1862 et seq.; Pub. L. 109-241; Pub. L. 109-479

Abstract: This rule would amend the Bering Sea and Aleutian Islands Crab Rationalization Program through two actions intended to benefit eligible crab communities by enhancing opportunities to retain community historical processing interests in the Bering Sea and Aleutian Islands crab fisheries. The action would modify the right of first refusal provisions that provide eligible crab community entities with the opportunity to purchase processor quota shares and other associated assets proposed for sale. The first action would affect about 21 processor quota shareholders. The rule would require all persons holding processor quota share to provide annual notification to NMFS regarding the status of the right of first refusal for all processor quota share holdings. The second action would amend regulations to separate the combined individual fishing quota/individual processor quota application into two applications, and revise reporting requirements for crab cooperatives.

Timetable:

Action | Date | FR Cite
NPRM | 11/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov

RIN: 0648-BE98

184. • Reductions in Fishing Capacity for Lobster Management Areas 2 and 3

Legal Authority: 16 U.S.C. 5101 et seq.

Abstract: This action proposes several reductions in fishing capacity for Lobster Management Areas 2 and 3. The proposed measures include: Caps on the number of traps that can be actively fished; caps on the number of traps associated with a permit (i.e., allowing trap banking); and caps on the number of traps or permits issued to a given owner. This action is intended to assist in rebuilding the Southern New England lobster stock.

Timetable:

Action | Date | FR Cite
NPRM | 02/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF01

185. • Amendment 109 to the Fishery Management Plan for Groundfish of the BSAI To Facilitate Development of Groundfish Fisheries for Small Vessels in the Western Alaska Community Development Quota Program

Legal Authority: 16 U.S.C. 1801 et seq.

Abstract: This action would amend the Fishery Management Plan for Groundfish of the Bering Sea and Aleutian Islands Management Area and revise regulations governing the groundfish and halibut fisheries managed under the Western Alaska Community Development Quota Program in order to support increased participation in the groundfish Community Development Quota fisheries (primarily Pacific cod) by catcher vessels less than or equal to 46 feet (14.0 m) length overall using hook-and-line gear. This action is necessary to promote the goals of the Community Development Quota Program, to increase participation by residents of Community Development Quota communities in the Bering Sea and Aleutian Islands Management Area groundfish and halibut fisheries, and to support economic development in western Alaska. This action would benefit the six Community Development Quota groups and the operators of the small catcher vessels that the Community Development Quota groups authorize to fish on their behalf by reducing the costs of participating in the groundfish and halibut Community Development Quota fisheries.

Timetable:

Action | Date | FR Cite
NPRM | 12/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF05

186. • Magnuson-Stevens Fisheries Conservation and Management Act; Seafood Import Monitoring Program

Legal Authority: 16 U.S.C. 1857(1)(Q)

Abstract: On March 15, 2015, the Presidential Task Force on Combating Illegal, Unreported, and Unregulated Fishing and Seafood Fraud (Task Force), co-chaired by the Departments of Commerce and State, published its action plan to implement Task Force recommendations for a comprehensive framework of integrated programs to combat illegal, unreported, and unregulated fishing and seafood fraud. The plan identifies actions that will strengthen enforcement, create and expand partnerships with state and local governments, industry, and non-governmental organizations, and create a traceability program to track seafood from harvest to entry into U.S. commerce, including the use of existing traceability mechanisms. As part of that plan, NMFS proposes regulatory changes to improve the administration of the MSA prohibition on the entry into interstate or foreign commerce of any fish taken in violation of any foreign law or regulation. The proposed rule includes adjustments to permitting and reporting requirements to provide for traceability of seafood products offered for entry into the U.S. supply chain, and to ensure that these products were lawfully acquired. Requirements for an international trade permit and reporting on the origin of certain imported or exported fishery products were previously established by regulations applicable to a number of specified fishery products. This rulemaking would extend those existing permitting and reporting requirements to additional fish species and seafood products. It is anticipated that these changes will not significantly affect current levels of trade in seafood products nor activity by U.S. importers and exporters issued Fisheries International Trade permits.

Timetable:

Action | Date | FR Cite
NPRM | 12/00/15 |
Final Action | 08/00/16 |

Regulatory Flexibility Analysis Required: Yes.

Agency Contact: John Henderschedt, Director, Office for International Affairs and Seafood Inspection, Department of Commerce, National Oceanic and Atmospheric Administration, 1315 East West Highway, Room 10362, Silver Spring, MD 20910, Phone: 301 427-8314, Email: john.henderschedt@noaa.gov.

RIN: 0648-BF09

187. • Pacific Coast Groundfish Trawl Rationalization Program; Widow Rockfish Reallocation in the Individual Fishing Quota Fishery

Legal Authority: 16 U.S.C. 1801 et seq.

Abstract: In January 2011, NMFS implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. NMFS declared the widow rockfish rebuilt in 2011 and, accordingly, the Pacific Fishery Management Council has now recommended actions to manage the increased abundance of widow rockfish. The proposed action would reallocate individual fishing quota widow rockfish quota share to facilitate directed harvest and would lift the moratorium on widow rockfish quota share trading.

Timetable:

Action | Date | FR Cite
NPRM | 11/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF12

188. • Framework Amendment 3 to the Fishery Management Plan for the Coastal Migratory Pelagic Resources of the Gulf of Mexico and Atlantic Region

Legal Authority: 16 U.S.C. 1801 et seq.

Abstract: This rule would modify trip limits, accountability measures, electronic reporting requirements, and gillnet permit requirements for commercial king mackerel landed by gillnet in the Gulf of Mexico. The need for this proposed action is to increase efficiency, stability, and accountability, and reduce the potential for regulatory discards in the commercial king mackerel gillnet component of the fishery.

Timetable:

Action | Date | FR Cite
NPRM | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov

RIN: 0648-BF14

189. • Framework Amendment to the Fishery Management Plan for the Reef Fish Resources of the Gulf of Mexico To Modify Greater Amberjack Allowable Harvest and Management Measures

Legal Authority: 16 U.S.C. 1801 et seq.

Abstract: This action is intended to end overfishing and rebuild the Gulf of Mexico greater amberjack stock; a 2014 stock assessment indicated the Gulf of Mexico greater amberjack stock remains overfished and is undergoing overfishing. Allowable harvest will be reduced and will remain constant until changed based on new information. To better constrain catches to the allowable harvest levels, the recreational minimum size limit will be increased from 30 inches fork length to 34 inches fork length, and the commercial trip limit will be reduced from 1,923 pounds gutted weight to 1,500 pounds gutted weight.

Timetable:

Action | Date | FR Cite
NPRM | 11/00/15 |
Final Action | 12/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF21

190. • Implementation of Salmon Bycatch Management Measures for the Bering Sea Pollock Fishery

Legal Authority: 16 U.S.C. 1801 et seq.

Abstract: Regulatory Amendment 110 would make substantive changes to the management of salmon bycatch in the Bering Sea pollock fishery to minimize salmon bycatch in the pollock fishery to the extent practicable. Currently, Chinook and chum salmon bycatch are managed under two different programs, which have led to inefficiencies and do not allow the pollock fishery the flexibility to modify their harvest patterns and practices to effectively minimize both Chinook and chum salmon bycatch. This regulation would make salmon bycatch management more effective, comprehensive, and efficient by increasing flexibility to respond to changing conditions and providing greater incentives to reduce bycatch of both salmon species. This regulation would provide the flexibility to harvest pollock in times and places that best achieve salmon avoidance and to adapt to changing conditions quickly.

Timetable:

Action | Date | FR Cite
NPRM | 12/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF25

191. • Amendment 18 to the Northeast Multispecies Fishery Management Plan (Section 610 Review)

Legal Authority: 16 U.S.C. 1801 et seq.

Abstract: Amendment 18 to the Northeast Multispecies Fishery Management Plan would make necessary minor administrative adjustments to several groundfish sectors, as well as minor adjustments to fishing activity designed to protect fishery resources while maximizing flexibility and efficiency. Specifically, it would include the following management measures: Creating an accumulation limit for either the holdings of Potential Sector Contribution or of Northeast multispecies permits; creating a sub-annual catch limit that Handgear A permits could enroll in and other measures pertaining to fishing with Handgear A permits; adjusting what fishery data are considered confidential, specifically the price of annual catch entitlement transferred within a sector or leased between sectors; establishing an inshore/offshore boundary within the Gulf of Maine with associated measures, including creation of a Gulf of Maine cod sub-annual catch limit, adjusting the Gulf of Maine Gear Restricted Area boundary to align with the inshore/offshore boundary, and creating declaration time periods for fishing in the inshore or offshore areas; and establishing a Redfish Exemption Area, in which vessels could fish with a smaller mesh net than the standard mesh size, targeting redfish.

Timetable:

Action | Date | FR Cite
NPRM | 12/00/15 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF26

192. • Framework Amendment to the Fishery Management Plan for the Reef Fish Resources of the Gulf of Mexico for Red Snapper Commercial Quota Retention for 2016

Legal Authority: 16 U.S.C. 1801 et seq.

Abstract: This action would provide the authority to withhold 4.9 percent of the 2016 red snapper commercial quota prior to the annual distribution of allocation to the Individual Fishing Quota shareholders on January 1, 2016. This action is necessary to allow for the implementation of Reef Fish Amendment 28 in early 2016. Amendment 28 increases the recreational sectors allocation of the red snapper total allowable catch and was approved by the Council at the August 2015 meeting. However, it is unlikely that NMFS will be able to implement the reallocation until after the annual distribution on January 1. If Amendment 28 is approved by the Secretary of Commerce, the 4.9 percent of the commercial quota would be transferred to the recreational sector. If Amendment 28 is disapproved by the Secretary of Commerce, the 4.9 percent of the commercial quota would be distributed to the Individual Fishing Quota shareholders.

Timetable:

Action | Date | FR Cite
NPRM | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF33

DEPARTMENT OF COMMERCE (DOC)

National Oceanic and Atmospheric Administration (NOAA)

Final Rule Stage

National Marine Fisheries Service

193. Fishery Management Plan for Regulating Offshore Marine Aquaculture in the Gulf of Mexico

Legal Authority: 16 U.S.C. 1801 et seq.

Abstract: The purpose of this fishery management plan is to develop a regional permitting process for regulating and promoting environmentally sound and economically sustainable aquaculture in the Gulf of Mexico exclusive economic zone. This fishery management plan consists of ten actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking would outline a regulatory permitting process for aquaculture in the Gulf of Mexico, including: (1) Required permits; (2) duration of permits; (3) species allowed; (4) designation of sites for aquaculture; (5) reporting requirements; and (6) regulations to aid in enforcement.

Timetable:

Action | Date | FR Cite
Notice of Availability | 06/04/09 | 74 FR 26829
NPRM | 08/28/14 | 79 FR 26829
NPRM Comment Period Reopened | 11/13/14 | 79 FR 67411
Final Action | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-AS65

194. Atlantic Highly Migratory Species; Future of the Atlantic Shark Fishery

Legal Authority: 16 U.S.C. 1801 et seq.; 16 U.S.C. 971 et seq.

Abstract: The National Marine Fisheries Service is considering adjusting the regulations governing the U.S. Atlantic shark fishery to address current fishery issues and to identify specific shark fishery goals for the future. This action will consider potential changes to the quota and/or permit structure that are currently in place for the Atlantic shark fishery, and various catch share programs such as limited access privilege programs, individual fishing quotas, and sectors for the Atlantic shark fishery.

Timetable:

Action | Date | FR Cite
ANPRM | 09/20/10 | 75 FR 57235
ANPRM Comment Period End | 01/14/11 |
Notice | 05/27/14 | 79 FR 30064
NPRM | 01/20/15 | 80 FR 2648
Notice | 03/09/15 | 80 FR 12394
Final Rule | 08/18/15 | 80 FR 50073
Final Rule Effective | 08/18/15 |
Final Action—Next Stage Undetermined | 11/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BA17

195. Implement the 2010 Shark Conservation Act Provisions and Other Regulations in the Atlantic Smoothhound Shark Fishery

Legal Authority: 16 U.S.C. 1801 et seq.

Abstract: This rule considers implementing the provisions of the 2010 Shark Conservation Act and other regulations in the Atlantic Smoothhound Fishery (which includes smooth dogfish and the Florida smoothhound). Specifically, this action would: (1) Modify regulations for smooth dogfish as needed to be consistent with the Shark Conservation Act; (2) consider other management measures, as needed, including the Terms and Conditions of the Endangered Species Act Smoothhound Biological Opinion; and, (3) consider revising the current smoothhound shark quota based on updated catch data.

Timetable:

Action | Date | FR Cite
NPRM | 08/07/14 | 79 FR 46217
NPRM Comment Period End | 11/14/14 |
Final Action | 11/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BB02

196. Amendment 7 to the 2006 Consolidated Highly Migratory Species Fishery Management Plan

Legal Authority: 16 U.S.C. 1801 et seq.; 16 U.S.C. 971 et seq.

Abstract: Amendment 7 focused on bluefin tuna fishery management issues consistent with the need to end overfishing and rebuild the stock. Measures in Amendment 7 addressed several of the longstanding challenges facing the fishery and analyzed, among other things, revisiting quota allocations; reducing and accounting for dead discards; adding or modifying time/area closures or gear-restricted areas; and improving the reporting and monitoring of dead discards and landings in all categories.

Timetable:

Action | Date | FR Cite
Notice | 04/23/12 | 77 FR 24161
Notice | 06/08/12 | 77 FR 34025
NPRM | 08/21/13 | 78 FR 52032
NPRM Comment Period Extended | 09/18/13 | 78 FR 57340
Public Hearing | 11/05/13 | 78 FR 66327
NPRM Comment Period Reopened | 12/11/13 | 78 FR 75327
Public Hearing | 12/26/13 | 78 FR 78322
Final Rule | 12/02/14 | 79 FR 71509
Notice of Public Webinars | 12/16/14 | 79 FR 74652
Final Rule | 12/30/14 | 79 FR 78310
Final Rule | 02/04/15 | 80 FR 5991
Final Rule Effective | 02/04/15 |
Notice | 05/07/15 | 80 FR 26196
Final Action-Next Stage Undetermined | 11/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC09

197. Implementation of the Inter-American Tropical Tuna Commission Resolution to Establish a Vessel Monitoring System Program in the Eastern Pacific Ocean

Legal Authority: 16 U.S.C. 1801 et seq.; 16 U.S.C. 951 et seq.

Abstract: This rule would implement the Inter-American Tropical Tuna Commissions Resolution intended to require owners and operators of tuna-fishing vessels to have installed, activate, carry and operate vessel monitoring system units (also known as mobile transmitting units). This regulation would apply to owners and operators of tuna-fishing vessels 24 meters or more in length operating in the eastern Pacific Ocean. The vessel monitoring system units would have to be type-approved and authorize the Inter-American Tropical Tuna Commission and National Marine Fisheries Service to receive and relay transmissions (also called position reports) from the vessel monitoring system unit. Vessel monitoring systems may enhance the safety of some vessels by allowing the vessels location to be tracked, which could assist in rescue efforts. This regulation would apply to commercial vessels and would not apply to recreational or charter vessels. This rule would apply to approximately seventy-four vessels; however, roughly thirty-eight of these vessels are already subject to vessel monitoring system requirements under the Western and Central Pacific Fisheries Commission. Due to the relatively small number of vessels affected, this rule is not expected to garner public opposition or congressional interest.

Timetable:

Action | Date | FR Cite
NPRM | 02/06/14 | 79 FR 7152
Correction | 02/25/14 | 79 FR 10465
Proposed Rule | 05/19/15 | 80 FR 28572
Comment Period End | 06/18/15 |
Final Action | 11/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD54

198. Amendment 8 to the Fishery Management Plan for Coral, Coral Reefs, and Live/Hard Bottom Habitats of the South Atlantic Region

Legal Authority: 16 U.S.C. 1801 et seq.

Abstract: Coral Amendment 8 modified the boundaries of the Oculina Bank Habitat Area of Particular Concern, the Stetson-Miami Terrace Coral Habitat Area of Particular Concern, and the Cape Lookout Coral Habitat Area of Particular Concern to protect deepwater coral ecosystems. The amendment also implemented a transit provision through the Oculina Bank Habitat Area of Particular Concern for fishing vessels with rock shrimp onboard.

Timetable:

Action | Date | FR Cite
Notice | 05/20/14 | 79 FR 28880
NPRM | 06/03/14 | 79 FR 31907
Correction | 07/01/14 | 79 FR 37269
Final Rule | 07/17/15 | 80 FR 42423
Final Rule Correction | 08/04/15 | 80 FR 46205
Final Rule Effective | 08/17/15 |
Final Action—Next Stage Undetermined | 12/00/15 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD81

199. Cost Recovery From Amendment 80, Community Development Quota Groundfish and Halibut, American Fisheries Act and Aleutian Islands Pollock, and the Freezer Longline Coalition Pacific Cod Fisheries Man

Legal Authority: 16 U.S.C. 1862; Pub. L. 109-241; Pub. L. 109-479

Abstract: The National Marine Fisheries Service proposes regulations to implement a limited access permit program cost recovery fee for Amendment 80, Western Alaska Community Development Quota groundfish and halibut, American Fisheries Act and Aleutian Islands Pollock, and the Pacific Cod Freezer Longline Coalition fisheries management programs in the Bering Sea and Aleutian Islands. The purpose of this action is to comply with section 304(d) of the Magnuson-Stevens Act, which authorizes and requires the National Oceanic and Atmospheric Administration (NOAA) fisheries to collect fees for limited access permit programs and the Western Alaska Community Development Quota program. The fees collected would be used to recover the actual costs directly related to the management, data collection, and enforcement of these programs that are incurred by the National Marine Fisheries Service.

Timetable:

Action | Date | FR Cite
NPRM | 01/07/15 | 80 FR 935
NPRM Comment Period End | 02/06/15 |
Final Action | 11/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE05

200. International Fisheries; Western and Central Pacific Fisheries for Highly Migratory Species; Fishing Effort and Catch Limits and Other Restrictions and Requirements

Legal Authority: 16 U.S.C. 6901 et seq.

Abstract: This rule would establish a framework under which the National Marine Fisheries Service (NMFS) could specify limits on fishing effort and catches, as well as spatial and temporal restrictions on particular fishing activities, in U.S. fisheries for highly migratory fish species in the western and central Pacific Ocean. NMFS would issue the specifications as needed to implement conservation and management measures adopted by the Commission for the Conservation and Management of Highly Migratory Fish Stocks in the Western and Central Pacific Ocean. The rule also would require that U.S. fishing vessels of a certain size obtain International Maritime Organizational numbers, and prohibit U.S. longline fishing vessels from using shark lines, which are used in some fisheries to target sharks. This action is necessary for the United States to satisfy its obligations under the Convention on the Conservation and Management of Highly Migratory Fish Stocks in the Western and Central Pacific Ocean, to which it is a Contracting Party.

Timetable:

Action | Date | FR Cite
NPRM | 07/23/15 | 80 FR 43694
NPRM Comment Period End | 08/07/15 |
Final Action | 11/00/15 |

Regulatory Flexibility Analysis Required: Yes.

Agency Contact: Michael Tosatto, Regional Administrator, Pacific Islands Region, Department of Commerce, National Oceanic and Atmospheric Administration, 1845 Wasp Blvd., Bldg. 176, Honolulu, HI 96818, Phone: 808 725-5000, Email: michael.tosatto@noaa.gov.

RIN: 0648-BE84

201. Revision of Skate Maximum Retainable Amounts in the Gulf of Alaska Groundfish Fishery

Legal Authority: 16 U.S.C. 1801 et seq.

Abstract: This rule would reduce the maximum retainable amount of incidentally caught skates in directed fisheries for groundfish in the Gulf of Alaska to 5 percent, which would allow a vessel to retain skates in an amount up to 5 percent of the weight of the target groundfish species onboard the vessel. The skate maximum retainable amount is intended to limit harvest of skates to the intrinsic rate of incidental catch of skates in Gulf of Alaska groundfish fisheries and to provide a disincentive for vessels to target skates. Skate harvests have increased in recent years and have exceeded the acceptable biological catch in some areas. This action is necessary to enhance conservation and management of skates by decreasing the incentive for vessels to target skates and to slow the harvest rate of skates.

Timetable:

Action | Date | FR Cite
NPRM | 07/10/15 | 80 FR 39734
NPRM Comment Period End | 08/10/15 |
Final Action | 11/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE85

202. Pacific Coast Groundfish Fishing Capacity Reduction Loan Refinance (Section 610 Review)

Legal Authority: 16 U.S.C. 1801 et seq.; 16 U.S.C. 1861 et seq.; 5 U.S.C. 561 et seq.

Abstract: The National Marine Fisheries Service (NMFS) issued proposed regulations to refinance the voluntary fishing capacity reduction loan program implemented in 2004 in the Pacific Coast groundfish Federal limited-entry trawl, Washington coastal Dungeness crab, and California pink shrimp fisheries (collectively known hereafter as the refinanced reduction fisheries). The refinance loan of up to $30 million will establish a new industry fee system for future landings of the refinanced reduction fisheries. Upon publishing a final rule and receipt of an appropriation, NMFS will conduct three referenda to refinance the existing debt obligation in each of the refinanced reduction fisheries. If a referendum in one, two, or all three of the fisheries is successful, that fishery's current loan will be repaid in full and a new loan in the amount of the principal and interest balance as of the date of funding will be issued. The terms were prescribed in the 2015 National Defense Authorization Act and include a 45-year term to maturity, interest charged at a current Treasury interest rate, and a maximum repayment fee of 3% of ex-vessel value.

Timetable:

Action | Date | FR Cite
NPRM | 08/07/15 | 80 FR 46941
NPRM Comment Period End | 09/08/15 |
Final Action | 12/00/15 |

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

203. • Process for Divestiture of Excess Quota Shares (Section 610 Review)

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants, with limits on how much quota each participant can accumulate. Under current regulations, quota share owners must divest quota shareholdings that exceed individual accumulation limits by November 30, 2015. This proposed action would make minor procedural modifications to the program regulations to clarify how divestiture of excess quota share could occur.

Timetable:

Action | Date | FR Cite
NPRM | 09/02/15 | 80 FR 53088
NPRM Comment Period End | 10/02/15 |
Final Action | 06/00/16 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF11

204. Designation of Critical Habitat for the North Atlantic Right Whale

Legal Authority: 16 U.S.C. 1361 et seq.; 16 U.S.C. 1531 et seq.

Abstract: The National Marine Fisheries Service proposes to revise the critical habitat designation for the North Atlantic right whale. This proposal would result in an expansion of critical habitat in the northeast feeding area (Gulf of Maine-Georges Bank region) and the southeast calving area (Florida to North Carolina) compared to what was designated in 1994 for right whales.

Timetable:

Action | Date | FR Cite
NPRM | 02/20/15 | 80 FR 9313
NPRM Comment Period End | 04/21/15 |
Final Action | 02/00/16 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AY54

205. Endangered and Threatened Species: Designation of Critical Habitat for Threatened Lower Columbia River Coho Salmon and Puget Sound Steelhead

Legal Authority: 16 U.S.C. 1531 et seq.

Abstract: This action will designate critical habitat for lower Columbia River coho salmon and Puget Sound steelhead, currently listed as threatened species under the Endangered Species Act. The areas proposed for designation include freshwater and estuarine habitat in Oregon and Washington.

Timetable:

Action | Date | FR Cite
NPRM | 01/14/13 | 78 FR 2725
NPRM Comment Period End | 04/15/13 |
Final Action | 11/00/15 |

Regulatory Flexibility Analysis Required: Yes.

Agency Contact: Dwayne Meadows, Department of Commerce, National Oceanic and Atmospheric Administration, 1315 East-West Highway, Silver Spring, MD 20910, Phone: 301 427-8467, Email: dwayne.meadows@noaa.gov.

RIN: 0648-BB30

206. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The proposed critical habitat designation would be in the northern Bering, Chukchi, and Beaufort seas within the current range of the species.

Timetable:

Action | Date | FR Cite
NPRM | 12/03/14 | 79 FR 71714
Proposed Rule | 12/09/14 | 79 FR 73010
Notice of public hearings | 01/13/15 | 80 FR 1618
Comment Period Extended | 02/02/15 | 80 FR 5498
Final Action | 06/00/16 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC56

NOS/ONMS

207. Revisions to Hawaiian Islands Humpback Whale National Marine Sanctuary Regulations

Legal Authority: 16 U.S.C. 1431 et seq.; Pub. L. 102-587

Abstract: In 2010, the Office of National Marine Sanctuaries (ONMS) initiated a review of the Hawaiian Islands Humpback Whale National Marine Sanctuary management plan, to evaluate substantive progress toward implementing the goals for the sanctuary, and to make revisions to its management plan and regulations as necessary to fulfill the purposes and policies of the National Marine Sanctuaries Act (NMSA) and the Hawaiian Islands National Marine Sanctuary Act (HINMSA; Title II, Subtitle C, Pub. L. 102587). ONMS intends to publish a proposed rule and draft EIS that proposes to expand the scope of the sanctuary to ecosystem based management rather than concentrating on only humpback whales. In addition, possible boundary expansion will be discussed.

Timetable:

Action | Date | FR Cite
Notice | 07/14/10 | 75 FR 40759
NPRM | 03/26/15 | 80 FR 16223
Notice | 04/29/15 | 80 FR 23742
NPRM Comment Period End | 06/19/15 |
Final Action | 09/00/16 |

Regulatory Flexibility Analysis Required: Yes.

Agency Contact: Edward Lindelof, Department of Commerce, National Oceanic and Atmospheric Administration, 1315 East-West Highway, Silver Spring, MD 20910, Phone: 301 713-3137, Email: edward.lindelof@noaa.gov.

RIN: 0648-BD97

DEPARTMENT OF COMMERCE (DOC)

National Oceanic and Atmospheric Administration (NOAA)

Long-Term Actions

National Marine Fisheries Service

208. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next Action Undetermined

Regulatory Flexibility Analysis Required: Yes.

Agency Contact: Roy E. Crabtree, Phone: 727 824-5305, Fax: 727 824-5308, Email: roy.crabtree@noaa.gov.

RIN: 0648-BD25

209. Designate Critical Habitat for the Hawaiian Insular False Killer Whale Distinct Population Segment

Legal Authority: 16 U.S.C. 1531 et seq.

Abstract: The proposed action, if approved, would designate critical habitat for the Hawaiian insular false killer whale distinct population segment, pursuant to section 4 of the Endangered Species Act. Proposed critical habitat would be designated in the main Hawaiian Islands as the Hawaiian insular false killer whales range is restricted from nearshore out to 140 km from the main Hawaiian Islands.

Timetable:

Action | Date | FR Cite
NPRM | 04/00/18

Regulatory Flexibility Analysis Required: Yes.

Agency Contact: Donna Wieting, Phone: 301 427-8400.

RIN: 0648-BC45

DEPARTMENT OF COMMERCE (DOC)

National Oceanic and Atmospheric Administration (NOAA)

Completed Actions

210. Amendment 22 to the Fishery Management Plan for the Snapper Grouper Fishery of the South Atlantic Region

Legal Authority: 16 U.S.C. 1801 et seq.

Abstract: The National Marine Fisheries Service in collaboration with the South Atlantic Fishery Management Council published this notice with the intention to prepare an Environmental Impact Statement to describe and analyze a range of alternatives for management actions to be included in Amendment 22 to the Fishery Management Plan for the Snapper-Grouper Fishery of the South Atlantic Region. These alternatives will consider measures to establish a long-term red snapper fishery management program in the South Atlantic to optimize yield and rebuild the stock, while minimizing socioeconomic impacts. More specifically, these alternatives will consider the elimination of harvest restrictions on red snapper as the stock increases in biomass. The purpose of this Notice of Intent is to solicit public comments on the scope of issues to be addressed in the Environmental Impact Statement.

Timetable:

Action | Date | FR Cite
Notice | 01/03/11 | 76 FR 101
Notice | 08/02/13 | 78 FR 46923
Final Action | 08/19/13 | 78 FR 50394

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BA53

211. Amendment 31 to the Fishery Management Plan for the Bering Sea and Aleutian Islands King and Tanner Crabs

Legal Authority: 16 U.S.C. 1801 et seq.

Abstract: The intent of Amendment 31 was to relax participation requirements for captains and crew in the Bering Sea/Aleutian Islands Crab Rationalization Program, and to modify the timing and preparation of specific documents that are currently required under the program. This action was necessary to fulfill the North Pacific Fishery Management Council's intent that captain and crew quota shares are held by individuals who are actively participating in the Crab Rationalization Program fisheries, to provide quota share acquisition opportunity to captains and crew who may have been displaced from employment in the Crab Rationalization Program fisheries and were not initial recipients of quota shares, and to make the quota shares available to captains and crew who are new entrants into the Crab Rationalization Program fisheries.

Timetable:

Action | Date | FR Cite
Notice of Availability | 12/15/14 | 79 FR 74058
NPRM | 12/24/14 | 79 FR 77427
NPRM Comment Period End | 01/23/15
Final Action | 03/26/15 | 80 FR 15891
Final Action Effective | 05/01/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BA61

212. Amendment 43 to the FMP for BSAI King and Tanner Crabs and Amendment 103 to the FMP for Groundfish of the BSAI

Legal Authority: 16 U.S.C. 1801 et seq.

Abstract: This rule implements both Amendment 43 to the Fishery Management Plan for the Bering Sea/Aleutian Islands King and Tanner Crabs and Amendment 103 to the Fishery Management Plan for Groundfish of the Bering Sea and Aleutian Islands Management Area. Amendment 43 revised the current rebuilding plan for Pribilof Islands blue king crab (blue king crab) and Amendment 103 implemented groundfish fishing restrictions. A no-trawl Pribilof Islands Habitat Conservation Zone (Zone) was established in 1995 and the directed fishery for blue king crab has been closed since 1999. A rebuilding plan was implemented in 2003; however, blue king crab remains overfished and the current rebuilding plan has not achieved adequate progress towards rebuilding the stock by 2014. The rule closed the Zone to all Pacific cod pot fishing in addition to the current trawl prohibition. This measure will help support blue king crab rebuilding and prevent exceeding the overfishing limit of blue king crab by minimizing to the extent practical blue king crab bycatch in the groundfish fisheries.

Timetable:

Action | Date | FR Cite
Notice | 08/21/14 | 79 FR 49463
NPRM | 08/29/14 | 79 FR 51520
Final Action | 12/02/14 | 79 FR 71344
Final Action Effective | 01/01/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BC34

213. Pacific Coast Groundfish Trawl Rationalization Program Trailing Action: Rule To Modify Chafing Gear Regulations for Midwater Trawl Gear Used in the Pacific Coast Groundfish Fishery

Legal Authority: 16 U.S.C. 1801 et seq.

Abstract: This action modified the existing chafing gear regulations for midwater trawl gear, and includes housekeeping measures to clarify which vessels can use midwater trawl gear and where midwater trawl gear can be used. This action includes regulations that affect all trawl sectors (Shorebased Individual Fishing Quota Program, Mothership Cooperative Program, Catcher/Processor Cooperative Program, and tribal fishery) managed under the Pacific Coast Groundfish Fishery Management Plan.

Timetable:

Action | Date | FR Cite
NPRM | 03/19/14 | 79 FR 15296
NPRM Correction Notice | 04/04/14 | 79 FR 18876
Final Action | 12/02/14 | 79 FR 71340
Final Action Effective | 01/01/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BC84

214. Fisheries Off West Coast States; West Coast Salmon Fisheries; Amendment 18; Essential Fish Habitat Descriptions for Pacific Salmon

Legal Authority: 16 U.S.C. 1801 et seq.

Abstract: The action implements Amendment 18 to the Pacific Coast Salmon Fishery Management Plan. This amendment addressed revisions to the Pacific coast salmon essential fish habitat provisions under the Magnuson-Stevens Fishery Conservation and Management Act.

Timetable:

Action | Date | FR Cite
Notice | 06/16/14 | 79 FR 34272
NPRM | 09/22/14 | 79 FR 56547
NPRM Comment Period End | 10/22/14
Final Action | 12/18/14 | 79 FR 75449
Final Action Effective | 01/20/15

Regulatory Flexibility Analysis Required: No.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BC95

215. Codifying the Initial Vessel Monitoring System Type-Approval Process and Requirements, and the Recertification and Revocation Processes

Legal Authority: 16 U.S.C. 1801 et seq.

Abstract: All vessels participating in the National Oceanic and Atmospheric Administration's Vessel Monitoring System program are required to use a National Marine Fisheries Service-approved transmitting unit. This rule codified into regulations the unit type-approval standards, requirements, and procedures for vendors to maintain approval for their products and services. The rule also codified requirements for agency approval, subsequent assessments, a renewal process, and procedures for revoking a unit's approval if the vendor fails to comply with the performance requirements. The previous national process regarding unit type-approval requirements for evaluating performance and improving or revoking unit type approvals was not codified. Therefore, the purpose of this rule was to codify the approval process, improve the enforceability of the approval requirements, and better ensure all unit type approvals remain in compliance and are consistent with the requirements. To eliminate the possibility of duplicating, overlapping, or conflicting Federal regulations, this rule also revised the Greater Atlantic Region's regulations to match those in this rule.

Timetable:

Action | Date | FR Cite
NPRM | 09/09/14 | 79 FR 53386
NPRM Comment Period End | 10/24/14
Final Action | 12/24/14 | 79 FR 77399
Final Action Effective | 01/23/15

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD02

216. Pacific Coast Groundfish Trawl Rationalization Program Trailing Actions: Permitting Requirements for Observer and Catch Monitor Providers (Section 610 Review)

Legal Authority: 16 U.S.C. 1801 et seq.

Abstract: This action modified regulations pertaining to certified catch monitors and observers required under the Pacific Coast Groundfish Fishery Management Plan. The action specified permitting requirements for business entities interested in providing certified observers and catch monitor services, as well as addressed numerous housekeeping measures and updated observer provider and vessel responsibilities relative to observer safety such that the regulations are consistent with the Coast Guard and Maritime Transportation Act of 2012.

Timetable:

Action | Date | FR Cite
NPRM | 02/19/14 | 79 FR 9591
NPRM Comment Period End | 03/21/14
Final Action | 04/21/15 | 80 FR 22269
Final Action Effective | 05/21/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD30

217. Establishment of Special Management Zones for Delaware Artificial Reefs

Legal Authority: 16 U.S.C. 1801 et seq.

Abstract: This action established special management zones around five State of Delaware-permitted artificial reefs in Federal waters. This action restricted the use of all fishing gear in these zones except hook and line and spear fishing, including taking by hand. Eliminating the other fishing gears prevented gear conflicts between hook and line, spear and hand fishing and other fishing gear. The proliferation of commercial gear on the reefs, especially fish traps, had been reported by the recreational fishing community as inhibiting their ability to fish the reefs. The artificial reefs were established with funds through U.S. Fish and Wildlife Service Sportfish Restoration Program to enhance sport fishing opportunities. Implementing the Council's recommendation restricted the use of fishing gears that are incompatible with the intended use of the artificial reefs. Commercial fishermen may continue to fish on the reefs and catch commercial quantities of fish with hook and line gear. It is expected this action will have little overall effect on the commercial sector.

Timetable:

Action | Date | FR Cite
NPRM | 06/19/14 | 79 FR 35141
Comment Period Extended | 07/16/14 | 79 FR 41530
Final Action | 06/09/15 | 80 FR 32480
Final Action Effective | 07/09/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BD42

218. Amendment 97 to the Fishery Management Plan for Groundfish of the Gulf Of Alaska To Establish Chinook Salmon Prohibited Species Catch Limits for the Non-Pollock Trawl Fisheries

Legal Authority: 16 U.S.C. 1801 et seq.; 16 U.S.C. 773 et seq.

Abstract: This rule limits Chinook salmon prohibited species catch in the Western and Central Gulf of Alaska non-pollock trawl fisheries. Chinook salmon is a fully utilized species in Alaska coastal subsistence, recreational, and commercial fisheries. In recent years the returns of Chinook salmon to some Alaska river systems have been below the biological escapement goals established by the State of Alaska. This action is necessary to minimize the catch of Chinook salmon to the extent practicable in the Gulf of Alaska non-pollock trawl fisheries. This action limited the annual Chinook salmon prohibited species catch in the non-pollock trawl fisheries to 7,500 salmon each year. If a sector reached its Chinook salmon prohibited species limit, further directed fishing for groundfish by vessels in that sector and season would be prohibited. Vessel operators would be required to retain salmon until the number of salmon has been determined by the vessel or plant observer and the observers data collection has been completed. About 70 vessels could be affected by this action. This action could reduce revenues from the fisheries, if the Chinook salmon prohibited species limit is reached before the groundfish quota is harvested. The action also may increase costs if vessel operators move fishing operations or take other actions to lower their catch of Chinook salmon.

Timetable:

Action | Date | FR Cite
Notice | 06/05/14 | 79 FR 32525
NPRM | 06/25/14 | 79 FR 35971
NPRM Comment Period End | 07/25/14
Final Action | 12/02/14 | 79 FR 71350
Final Action Effective | 01/01/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD48

219. Amendment 45 to the Fishery Management Plan for Bering Sea and Aleutian Islands King and Tanner Crab Freezer Longline Catcher/Processor Pacific Cod Sideboard Removal (Section 610 Review)

Legal Authority: 16 U.S.C. 1801 et seq.

Abstract: This rule established conditions for the removal of Gulf of Alaska Pacific cod catch limits, known as sideboards, which apply to some catcher/processor vessels using hook-and-line gear, also known as freezer longliners. The newly reorganized sideboard limits have effectively eliminated the ability of these stakeholders to participant in these Gulf of Alaska fisheries. The rule will remove the Gulf of Alaska Pacific cod sideboards from 6 freezer longline vessels if owners of vessels endorsed to catch and process Pacific cod in the Western Gulf of Alaska, Central Gulf of Alaska, or both (a total of 9 vessels) agree to removal of the sideboards, within one year from the effective date of the final rule. If an agreement is not reached by the deadline, the sideboarded vessels would not be able to participate in the Gulf of Alaska fisheries. The requirement for an agreement is intended to promote cooperation among all affected parties prior to the removal of sideboards.

Timetable:

Action | Date | FR Cite
Notice of Availability | 02/02/15 | 80 FR 5499
NPRM | 02/12/15 | 80 FR 7817
NPRM Comment Period End | 03/16/15
Final Action | 05/19/15 | 80 FR 28539
Final Action Effective | 06/18/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD61

220. Information Collection Program for Atlantic Surfclam and Ocean Quahog Fisheries

Legal Authority: 16 U.S.C. 1801 et seq.

Abstract: The National Marine Fisheries Service implemented this information collection program at the request of the Mid-Atlantic Fishery Management Council (Council). This program will collect additional information about the individuals who hold and/or control Individual Transferable Quota in the Atlantic surfclam and ocean quahog fisheries. This information will be used by the Council in the consideration and development of excessive shares cap(s) in these Individual Transferable Quota fisheries.

Timetable:

Action | Date | FR Cite
NPRM | 08/07/14 | 79 FR 46233
NPRM Comment Period Reopened | 10/02/14 | 79 FR 59472
Final Action | 07/20/15 | 80 FR 42747
Final Action Effective | 01/01/16

Regulatory Flexibility Analysis Required: No.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BD64

221. Amendment 100 to the FMP for Groundfish of the BSAI Management Area and Amendment 91 to the FMP for Groundfish of the Gulf of Alaska To Add Grenadiers to the Ecosystem Component Category

Legal Authority: 16 U.S.C. 1801 et seq.

Abstract: Amendments 100 and 91 amended the Groundfish Fishery Management Plans to add grenadiers to the ecosystem component category. Grenadiers are caught incidentally in the groundfish fisheries and adding them to the Fishery Management Plans recognizes their role in the ecosystem. The National Marine Fisheries Service also implemented regulations for federally-permitted groundfish fishermen to improve reporting of grenadiers, limit retention, and prevent directed fishing for grenadiers. This action was necessary to limit the groundfish fisheries impact on grenadiers.

Timetable:

Action | Date | FR Cite
Notice of Availability | 05/05/14 | 79 FR 25558
NPRM | 05/14/14 | 79 FR 27557
NPRM Comment Period End | 06/13/14
Final Action | 03/05/15 | 80 FR 11897
Final Action Effective | 04/06/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD98

222. Implementation of a Gulf of Alaska Trawl Fishery Economic Data Collection Program

Legal Authority: 16 U.S.C. 1801 et seq.; 16 U.S.C. 3631 et seq.; 16 U.S.C. 773 et seq.; Pub. L. 108199

Abstract: The National Marine Fisheries Service implemented the Trawl Economic Data Report Program to evaluate the economic effects of current and future groundfish and prohibited species catch management measures for the Gulf of Alaska trawl fisheries under the Fishery Management Plan for Groundfish of the Gulf of Alaska. This data collection program was necessary to provide the North Pacific Fishery Management Council and other analysts with baseline information on affected harvesters, crew, processors, and communities in the Gulf of Alaska that could be used to assess the impacts of major changes in the groundfish management regime; including catch share programs for prohibited species catch species and target species. The data collected, which may include labor information, revenues received, capital and operational expenses, and other operational or financial data for this program will be submitted by vessel owners and leaseholders of Gulf of Alaska trawl vessels, processors receiving deliveries from those trawl vessels, and Amendment 80 catcher/processors.

Timetable:

Action | Date | FR Cite
NPRM | 08/11/14 | 79 FR 46758
NPRM Comment Period End | 09/10/14
Final Action | 12/02/14 | 79 FR 71313
Final Action Effective | 01/01/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE09

223. 2015-2016 Pacific Coast Groundfish Harvest Specifications and Management Measures and Amendment 24 to the Pacific Coast Groundfish FMP

Legal Authority: 16 U.S.C. 1801 et seq.

Abstract: The action set biennial allowable harvest levels for Pacific Coast groundfish, as well as management measures for commercial and recreational fisheries that are designed to achieve those harvest levels. For the 2015-2016 biennium, the Council recommended changes in rebuilding parameters for one overfished species, cowcod. As such, the rebuilding plan was revised and affected the Annual Catch Limit value for this species for the 2-year period and beyond. The rule adjusts the harvest specifications including Overfishing Limits, the Acceptable Biological Catches, and Annual Catch Limits, as well as the management measures to achieve those specifications. Finally, the rule implements Amendment 24, which modifies the procedures in the Fishery Management Plan so that in the absence of explicit Council action, harvest specification values, based on default harvest control rules, for one or more stocks may be implemented by the National Marine Fisheries Service.

Timetable:

Action | Date | FR Cite
Notice of Availability | 11/26/14 | 79 FR 70497
NPRM | 01/06/15 | 80 FR 678
NPRM Comment Period End | 01/26/15
Final Action | 03/10/15 | 80 FR 12567
Final Action Effective | 03/10/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE27

224. Regulatory Amendment To Change the Definition of Sport Fishing Guide Services for Pacific Halibut in International Pacific Halibut Commission Area 2C and Area 3A

Legal Authority: 16 U.S.C. 773 et seq.

Abstract: The National Marine Fisheries Service finalized regulations that revised Federal regulatory text regarding sport fishing guide services for Pacific halibut in International Pacific Halibut Commission Regulatory Areas 2C (Southeast Alaska) and 3A (Central Gulf of Alaska) to remove the requirement that a charter vessel guide be on board the same vessel as a charter vessel angler to provide sport fishing guide services. The action clarified that all sport fishing in which anglers receive assistance from a compensated guide will be managed under charter fishery regulations, and all harvest will accrue toward charter allocations. This action aligned Federal regulations with State of Alaska regulations. The definition of sport fishing guide services was revised and a definition for compensation was added to Federal regulations. Additional minor changes to the regulatory text pertaining to the charter halibut fishery were required to maintain consistency in the regulations with these new definitions. This action was necessary to achieve the halibut fishery management goals of the North Pacific Fishery Management Council.

Timetable:

Action | Date | FR Cite
NPRM | 12/03/14 | 79 FR 71729
NPRM Comment Period End | 01/02/15
Final Action | 06/19/15 | 80 FR 35195
Final Action Effective | 07/20/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE41

225. Framework Action To Revise Recreational Accountability Measures for Red Snapper

Legal Authority: 16 U.S.C. 1801 et seq.

Abstract: To address the court ruling in Guindon v. Pritzker, the Gulf of Mexico Fishery Management Council developed this framework action that established two accountability measures for the recreational red snapper sector. The first recreational accountability measure action established an annual catch target that is lower than the quota/annual catch limit and set the recreational season length based on the annual catch target. Previously, the season length was set based on the quota/annual catch limit. The second recreational accountability measure action established an overage adjustment to mitigate the effects of any overage by reducing the quota/annual catch limit in the following year.

Timetable:

Action | Date | FR Cite
NPRM | 11/21/14 | 79 FR 69418
NPRM Comment Period End | 12/22/14
Final Action | 03/19/15 | 80 FR 14328
Final Action Effective | 04/20/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE44

226. Amendment 16 to the Fishery Management Plan for the Shrimp Fishery of the Gulf of Mexico, U.S. Waters

Legal Authority: 16 U.S.C. 1801 et seq.

Abstract: This rule changed the annual catch limit and selected an accountability measure for royal red shrimp. On January 30, 2012, the National Marine Fisheries Service implemented regulations developed through a generic annual catch limit and accountability measure amendment to multiple fishery management plans, including the Shrimp Fishery Management Plan. The rule removed the quota and in-season closure, and increased the annual catch limit. The current accountability measure, which requires in-season monitoring and closure the year following an annual catch limit overage, remained in effect.

Timetable:

Action | Date | FR Cite
Notice of Availability | 12/24/14 | 79 FR 77425
NPRM | 01/26/15 | 80 FR 3937
NPRM Comment Period End | 02/25/15
Final Action | 03/25/15 | 80 FR 15691
Final Action Effective | 04/24/15

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE46

227. 2015-2017 Specifications and Management Measures for the Atlantic Mackerel, Squid, and Butterfish Fisheries

Legal Authority: 16 U.S.C. 1801 et seq.

Abstract: This rule established catch levels and associated management measures for the 2015-2017 fishing years for species managed under the Atlantic Mackerel, Squid, and Butterfish Fishery Management Plan. More specifically, this action: Renewed status quo quotas on longfin and Illex squids for an additional 3 years; lowered the cap on river herring and shad catch in the mackerel fishery; increased the cap on river herring and shad catch in the mackerel fishery once the mackerel fishery catches more than 10,000 mt tons; lowered the Atlantic mackerel quota; substantially increased the butterfish quota; and simplified the controls on butterfish daily trip limits.

Timetable:

Action | Date | FR Cite
NPRM | 11/14/14 | 79 FR 68202
NPRM Comment Period End | 12/15/14
Final Action | 03/20/15 | 80 FR 14870
Final Action Effective | 04/20/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE49

228. Framework Adjustment 26 to the Atlantic Sea Scallop Fishery Management Plan (Section 610 Review)

Legal Authority: 16 U.S.C. 1531 et seq.; 16 U.S.C. 1801 et seq.

Abstract: This rule set scallop fishery management measures for the 2015 fishing year, including the annual catch limits and annual catch targets for the limited access and limited access general category fleets. In addition, it adjusted the State Waters Exemption Program, allowed for vessel monitoring system declaration changes for when vessels return home with product on board; implemented a proactive accountability measure to protect flatfish; aligned two gear measures designed to protect sea turtles; and implemented other measures to improve the management of the scallop fishery. Furthermore, aligning the gear designed to protect sea turtles involved modifying regulations to threatened marine species at 50 CFR part 223, so this action was a joint action with the Endangered Species Act.

Timetable:

Action | Date | FR Cite
NPRM | 03/17/15 | 80 FR 13806
NPRM Comment Period End | 04/01/15
Final Action | 04/21/15 | 80 FR 22119
Final Action Effective | 05/01/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE68

229. Pacific Coast Groundfish Trawl Rationalization Program—Midwater Trawl Fishery Season Date Change (Section 610 Review)

Legal Authority: 16 U.S.C. 1801 et seq.

Abstract: This action implemented revisions to the Pacific Coast Groundfish Trawl Rationalization Program affecting the limited entry midwater trawl fisheries managed under the Pacific Coast Groundfish Fishery Management Plan. This action included a regulatory amendment to change the primary season opening date for the shorebased whiting fishery and the shorebased non-whiting midwater trawl fishery to May 15 north of 40°30′ N. lat. to the U.S./Canada border. This moved the season a month earlier off Washington and Oregon and a month and half later off northern California (north of 40°30′ N. lat.), increasing consistency in the season start date along the coast and between the shorebased and at-sea midwater trawl fleets.

Timetable:

Action | Date | FR Cite
NPRM | 02/17/15 | 80 FR 8280
NPRM Comment Period End | 03/19/15
Final Action | 04/09/15 | 80 FR 19034
Final Action Effective | 05/15/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE72

230. Framework Adjustment 53 to the Northeast Multispecies Fishery Management Plan (Section 610 Review)

Legal Authority: 16 U.S.C. 1801 et seq.

Abstract: This action implemented management for the Northeast Multispecies Fishery that opened on May 1, 2015. The changes were developed in response to new scientific information and to meet the goals and objectives of the Fishery Management Plan. Framework 53 set 2015-2017 specifications for: Gulf of Maine cod, haddock, and winter flounder; Georges Bank winter flounder, and pollock; as well as 2015 shared U.S./Canada quotas for Georges Bank yellowtail flounder and Eastern Georges Bank cod and haddock. These new specifications were based on stock assessments completed in 2014. This action also modified the seasonal area closures designed to protect Gulf of Maine cod spawning; prohibited the possession of Gulf of Maine cod for all recreational groundfish vessels; introduced a mechanism to set default specifications in the event a management action is delayed; and modified the sector carryover provision in response to a recent Court ruling.

Timetable:

Action | Date | FR Cite
NPRM | 03/09/15 | 80 FR 12394
NPRM Comment Period End | 03/24/15
Final Action | 05/01/15 | 80 FR 25109
Final Action Effective | 05/01/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE75

231. 2015-2016 Atlantic Bluefin Tuna Quotas

Legal Authority: 16 U.S.C. 1801 et seq.; 16 U.S.C. 971 et seq.

Abstract: This rule would increase the Atlantic bluefin tuna base quotas and subquotas, implementing the U.S. annual Atlantic Bluefin Tuna quota recommended for 2015 and 2016 by the International Commission for the Conservation of Atlantic Tunas and allocating that quota among the domestic fishing categories.

Timetable:

Action | Date | FR Cite
NPRM | 06/12/15 | 80 FR 33467
NPRM Comment Period End | 07/13/15
Final Action | 08/28/15 | 80 FR 52198
Final Action Effective | 08/28/15

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BE81

232. Revision of Hawaiian Monk Seal Critical Habitat

Legal Authority: 16 U.S.C. 1531 et seq.

Abstract: The National Marine Fisheries Service (NMFS) is developing a rule to designate critical habitat for the Hawaiian monk seal in the main and Northwestern Hawaiian Islands. In response to a 2008 petition from the Center for Biological Diversity, Kahea, and the Ocean Conservancy to revise Hawaiian monk seal critical habitat, NMFS published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NMFS is augmenting its prior economic analysis to better describe the anticipated costs of the designation. NMFS is analyzing new tracking data to assess monk seal habitat use in the main Hawaiian Islands. That may lead to some reduction in foraging area critical habitat for the main Hawaiian Islands to better reflect where preferred foraging features may be found.

Timetable:

Action | Date | FR Cite
NPRM | 06/02/11 | 76 FR 32026
Notice of Public Meetings | 07/14/11 | 76 FR 41446
Other | 06/25/12 | 77 FR 37867
Final Action | 08/21/15 | 80 FR 50925
Final Action Effective | 09/21/15

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BA81

233. 2015 Annual Determination To Implement the Sea Turtle Observer Requirement

Legal Authority: 16 U.S.C. 1531 et seq.

Abstract: Through the Annual Determination, the National Marine Fisheries Service (NMFS) identifies U.S. fisheries operating in the Atlantic Ocean, Gulf of Mexico, and Pacific Ocean that will be required to take observers upon NMFS request, pursuant to its authority under the Endangered Species Act. The purpose of observing identified fisheries is to learn more about sea turtle interactions in a given fishery, evaluate existing measures to prevent or reduce prohibited sea turtle takes, and to determine whether additional measures to implement the prohibition against sea turtle takes may be necessary. Fisheries that were identified in the 2015 Annual Determination will remain on the Annual Determination for a 5-year period and are required to carry observers upon NMFS request until December 31, 2019.

Timetable:

Action | Date | FR Cite
NPRM | 10/22/14 | 79 FR 63066
NPRM Comment Period End | 11/21/14
Final Action | 03/19/15 | 80 FR 14319
Final Action Effective | 04/18/15

Regulatory Flexibility Analysis Required: No.

Agency Contact: Donna Wieting, Director, Office of Protected Resources, Department of Commerce, National Oceanic and Atmospheric Administration, National Marine Fisheries Service, 1315 East-West Highway, Silver Spring, MD 20910, Phone: 301 427-8400.

RIN: 0648-BE35

234. Amendment to the Atlantic Large Whale Take Reduction Plan

Legal Authority: 16 U.S.C. 1361 et seq.

Abstract: This final action amended the Atlantic Large Whale Take Reduction Plan (Plan). The Plan was previously amended on June 27, 2014, previously. This action changed the minimum number of traps per trawl requirements in state waters for safety reasons, as requested by the Massachusetts Division of Marine Fisheries. The National Marine Fisheries Service (NMFS) also received proposals from other state partners requesting the same change. During their January 2015 meeting, the proposals were discussed with the Atlantic Right Whale Take Reduction Team, which agreed that NMFS should move forward with the rulemaking process to adopt the proposals to amend the June 2014 final rule as suggested by the states. The Team also requested that NMFS develop unique gear marking for certain areas.

Timetable:

Action | Date | FR Cite
NPRM | 03/19/15 | 80 FR 14345
Proposed Rule Correction | 04/07/15 | 80 FR 18584
NPRM Comment Period End | 04/20/15
Final Action | 05/28/15 | 80 FR 30367
Final Action Effective | 05/28/15

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BE83

[FR Doc. 2015-30613 Filed 12-14-15; 8:45 am]

BILLING CODE 3510-12-P